DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by the Peabody Museum of Archaeology and Ethnology professional staff in consultation with officials of the Wampanoag Repatriation Confederation, representing the Wampanoag Tribe of Gay Head (Aquinnah), the Mashpee Wampanoag Indian Tribe (a nonfederally recognized Indian group), and the Assonet Band of the Wampanoag Nation (a nonfederally recognized Indian group).

In 1936, human remains representing one individual from Nantucket, MA, were donated to the Peabody Museum by Miss Harwood of the Nantucket Observatory Astronomy Laboratory. The remains were recovered by an unknown collector at an unknown date. No known individual was identified. No associated funerary objects are present.

Osteological characteristics indicate that the individual is Native American. This interment most likely dates to the late Woodland period or later (post-A.D. 1000). Based on a compilation of radiocarbon-dated human remains from Nantucket by the Nantucket Historical Society, it is likely that these human remains are not older than 1,000 years. To date, no radiocarbon dates for human remains from Nantucket are earlier than circa A.D. 1000. According to archeological evidence and oral tradition, the island of Nantucket is located within the traditional territory of the Wampanoag Nation during the late Woodland period. The present-day tribes that are most closely affiliated with members of the Wampanoag Nation are the Wampanoag Tribe of Gay Head (Aquinnah), the Mashpee Wampanoag Indian Tribe (a nonfederally recognized Indian group), and the Assonet Band of the Wampanoag Nation (a nonfederally recognized Indian group).

In 1941, human remains representing one individual from the Hughes site, Nantucket, MA, were recovered by Arthur F. Hughes. The human remains were donated to the Peabody Museum of Archaeology and Ethnology through Edward Brooks of the Massachusetts Archaeological Society the same year. No known individual was identified. No associated funerary objects are present.

According to museum documentation, ceramic sherds, a broken bone awl, a bent ceramic pipe stem, and a probable Levanna-style triangular projectile point were found in association with the human remains, but are not in the possession of the Peabody Museum of Archaeology and Ethnology.

These human remains were found in a traditional Native American-style burial context, with the head oriented to the northeast and the face to the east. This interment most likely dates to the late Woodland period or later (post-A.D. 1000). Based on a compilation of radiocarbon-dated human remains from Nantucket by the Nantucket Historical Society, it is likely that these human remains are not older than 1,000 years. To date, no radiocarbon dates for human remains from Nantucket are earlier than circa A.D. 1000. Attributed dates of the stylistic characteristics of the funerary objects from the Hughes site are consistent with this radiocarbon information. Native ceramic pipes with bent stems are identified initially during the middle Woodland period (circa A.D. 1), but are most strongly associated with the late Woodland period and later (post-A.D. 1000) in New England. Levanna-style projectile points date to the middle Woodland period and later in the New England area (post-A.D. 1). According to archeological evidence and oral tradition, the Hughes site is located within the traditional territory of the Wampanoag Nation during the late Woodland period. The present-day tribes that are most closely affiliated with members of the Wampanoag Nation are the Wampanoag Tribe of Gay Head (Aquinnah), the Mashpee Wampanoag Indian Tribe (a nonfederally recognized Indian group), and the Assonet Band of the Wampanoag Nation (a nonfederally recognized Indian group).

In 1956, human remains representing two individuals from Nantucket, MA, were donated to the Peabody Museum of Archaeology and Ethnology by the Robert S. Peabody Museum, Andover, MA. These human remains had been collected by Alfred Shurrocks and his wife in 1935, who then donated them to the Robert S. Peabody Museum. No known individuals were identified. No associated funerary objects are present.

Osteological characteristics indicate that the human remains are Native American. Based on a compilation of radiocarbon-dated human remains from Nantucket by the Nantucket Historical Society, it is likely that these human remains are not older than 1,000 years. To date, no radiocarbon dates for human remains from Nantucket are earlier than circa A.D. 1000. According to archeological evidence and oral tradition, the island of Nantucket is located within the traditional territory of the Wampanoag Nation during the late Woodland period. The present-day tribes that are most closely affiliated with members of the Wampanoag Nation are the Wampanoag Tribe of Gay Head (Aquinnah), the Mashpee Wampanoag Indian Tribe (a nonfederally recognized Indian group), and the Assonet Band of the Wampanoag Nation (a nonfederally recognized Indian group).

In 1959, human remains representing one individual from Nantucket, MA, were permanently loaned to the Peabody Museum of Archaeology and Ethnology by the Warren Anatomical Museum at the Harvard Medical School. These human remains may have been collected by J.M. Warren at an unknown date because they are from the J.M. Warren collection, which was assembled by Mr. Warren himself. No known individual was identified. No associated funerary objects are present.

Osteological characteristics indicate that the human remains are Native American. This interment most likely dates to the historic/contact period (post-A.D. 1500). The pattern of copper stains present on the cranial remains indicates that they were interred some time after European contact. Also, based on a compilation of radiocarbon-dated human remains from Nantucket by the Nantucket Historical Society, it is likely that these human remains are not older than 1,000 years. To date, no radiocarbon dates for human remains from Nantucket result earlier than circa A.D. 1000. Oral tradition and historic documentation indicate that the island of Nantucket is within the aboriginal and historic homeland of the Wampanoag Nation during the late Woodland period. The present-day tribes that are most closely affiliated with members of the Wampanoag Nation are the Wampanoag Tribe of Gay Head (Aquinnah), the Mashpee Wampanoag Indian Tribe (a nonfederally recognized Indian group), and the Assonet Band of the Wampanoag Nation (a nonfederally recognized Indian group).

Based on the above-mentioned information, officials of the Peabody Museum of Archaeology and Ethnology have determined that, pursuant to 43 CFR 10.2 (d)(1), the human remains listed above represent the physical remains of five individuals of Native American ancestry. Officials of the Peabody Museum of Archaeology and Ethnology have determined that, pursuant to 43 CFR 10.2 (e), there is a relationship of shared group identity that can be reasonably traced between these Native American human remains and the Wampanoag Tribe of Gay Head (Aquinnah), and that there is a cultural relationship between these Native American human remains and the Mashpee Wampanoag Indian Tribe (a nonfederally recognized Indian group), and the Assonet Band of the Wampanoag Nation (a nonfederally recognized Indian group).

This notice has been sent to officials of the Wampanoag Repatriation Confederation, the Wampanoag Tribe of Gay Head (Aquinnah), the Mashpee Wampanoag Indian Tribe, and the Assonet Band of the Wampanoag Nation. Representatives of any other Indian tribe that believes itself to be culturally affiliated with these human remains and associated funerary object should contact Patricia Capone, Repatriation Coordinator, Peabody Museum of Archaeology and Ethnology, Harvard University, 11 Divinity Avenue, Cambridge, MA 02138, telephone (617) 496-3702, before April 24, 2002. Repatriation of these human remains to the Wampanoag Repatriation Confederation on behalf of the Wampanoag Tribe of Gay Head (Aquinnah), the Mashpee Wampanoag Indian Tribe (a nonfederally recognized Indian group), and the Assonet Band of the Wampanoag Nation (a nonfederally recognized Indian group), may begin after that date if no additional claimants come forward.

Dated: February 12, 2002.
Robert Stearns,
Manager, National NAGPRA Program.

[FR Doc. 02-7013 Filed 3-22-02; 8:45 am]

BILLING CODE 4310-70-S